DEPARTMENT OF INTERIOR

Bureau of Land Management

[MT-099-1020-PG-003E]

Notice of Meeting

AGENCY: Bureau of Land Management, Lewistown Field Office, Interior.

ACTION: Notice of meeting.

SUMMARY: The Central Montana Resource Advisory Council will meet October 17-18, 2000 at the Holiday Inn, In Great Falls, Montana.

The October 17 portion of the meeting will begin at 7:45 am with a field trip to the Greenfields Irrigation District. The council will then have lunch and return to the Holiday Inn. At 1 p.m. there will be a 30-minute public comment period; followed by a welcome and orientation session for new RAC members; field manager updates; a review of funding requests for fiscal year 2001 and CARA legislation; a review of Lewis & Clark Bicentennial plans; and an open discussion among council members. This session will adjourn at 5 p.m.

The October 18 session will begin at 7:45 am with updates concerning sage grouse and sagebrush, prairie dogs, plovers, black-footed ferrets, noxious weeds, cottonwood regeneration and a cooperative ecosystem river study. The council will break for lunch from 12-1 p.m. After lunch the RAC will participate in discussions concerning the Missouri River subgroup, subdivisions, cottonwood regeneration, and river ferry crossing funding projects. These updates will conclude by 3:30 pm. The council will then address administrative details and adjourn by 5 p.m.

DATES: October 17 and 18, 2000.

LOCATION: Holiday Inn, Great Falls, Montana.

FOR FURTHER INFORMATION CONTACT: David L. Mari, Lewistown Field Manager, Lewistown Field Office, Bureau of land Management, Box 1160, Airport Road, Lewistown, MT.

SUPPLEMENTARY INFORMATION: The meeting is open to the public and there will be a public comment period as described above 59457.

Dated: September 21, 2000.
B. Gene Miller,
Associate Field Office Manager.

[FR Doc. 00-25108 Filed 9-29-00; 8:45 am]

BILLING CODE 4310-84-P